DEPARTMENT OF ENERGY

Federal Energy Regulatory Commission

[Docket No. CP09-165-000 ]

ANR Pipeline Company; Notice of Request Under Blanket Authorization

May 1, 2009.

Take notice that on April 23, 2009, ANR Pipeline Company (ANR), 717 Texas Street, Houston, Texas 77002, filed in Docket No. CP09-165-000, an application, pursuant to sections 157.205 and 157.208(c) of the Commission's Regulations under the Natural Gas Act (NGA) as amended, to rearrange and replace portions of its natural gas pipeline in Will County, Illinois, under ANR's blanket certificate issued in Docket No. CP82-480-000,¹ all as more fully set forth in the application which is on file with the Commission and open to the public for inspection.

¹ 20 FERC ¶ 62,595 (1982).

ANR proposes to rearrange and replace approximately 2000 feet of pipe on each of the following pipelines: the 22-inch diameter 100 line, the 30-inch diameter 1-100 line, and the 42-inch diameter 2-100 line, all located in Will County. ANR proposes to replace the 22-inch diameter and the 42-inch diameter lines from mile post (MP) 822.27 to MP 822.64 and the 30-inch diameter line from MP 822.31 to MP 822.64. ANR states that Center Point Development (Center Point) is proposing an intermodal project to place 21 rail car spurs over the existing ANR lines listed above. ANR further states that its existing lines are not designed for the proposed rail car load. Thus, ANR proposes to replace the existing lines with the same diameters but with increased wall thickness and grade. ANR states that Center Point would reimburse ANR for the estimated $13,500,000 it would cost to replace the various pipeline segments.

Any questions concerning this application may be directed to Dean Ferguson, Vice President, Marketing and Business Development, ANR Pipeline Company, 717 Texas Street, Houston, Texas 77002, telephone at (832) 320-5503, facsimile at (832) 320-6503, or via e-mail: dean_ferguson@transcanada.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-10692 Filed 5-7-09; 8:45 am]

BILLING CODE P